DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before November 17, 2008.

ADDRESSES: You may submit your comments, identified by “docket number” on the subject line, by any of the following methods:

1. Electronic Mail: Standards-Petitions@dol.gov.

2. Facsimile: 1-202-693-9441.

3. Regular Mail: MSHA, Office of Standards, Regulations, and Variances, 1100 Wilson Boulevard, Room 2350, Arlington, Virginia 22209, Attention: Patricia W. Silvey, Director, Office of Standards, Regulations, and Variances.

4. Hand-Delivery or Courier: MSHA, Office of Standards, Regulations, and Variances, 1100 Wilson Boulevard, Room 2350, Arlington, Virginia 22209, Attention: Patricia W. Silvey, Director, Office of Standards, Regulations, and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations, and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-045-C.

Petitioner: Guest Mountain Mining Corporation, P.O. Box 2560, Wise, Virginia 24293.

Mine: Guest Mountain #3 Mine, MSHA I.D. No. 44-07069 and Guest Mountain #4 Mine, MSHA I.D. No. 44-05815, located in Wise County, Virginia.

Regulation Affected: 30 CFR 77.214(a) (Refuse piles; general).

Modification Request: The petitioner requests a modification of the existing standard which prohibits refuse piles to be located over abandoned openings to permit sealing of abandoned mine openings during mine closure. The petitioner proposes to use scalped rock to cover the portal openings of the Guest Mountain #3 Mine upon closure of the mine in late 2008 or in early 2009. The petitioner states that: (1) This disposal fill will utilize scalped rock, i.e. underground development waste, partings, and “draw” rock/laminated shale roof rock from the adjacent Guest Mountain #4 Mine, Maggard Branch Coal, LLC, Virginia Division of Mined Land Reclamation Permit 1402002; (2) both mines are in the Parsons seam; and (3) there is a highwall at the mine portal area that varies in height from a few feet up to approximately 50 feet. The petitioner states that the refuse fill will consist of a combination of scalped rock and non-combustible rock rip rap that will ensure the openings will drain freely and not impound water, in the event the openings have water, and will not affect the stability of the refuse fill. The petitioner states that there are no plans to place mine refuse, i.e., scalped rock over the portals in question until after the mine has ceased underground operations, and there will be no miners underground during the entire time the scalped rock is being placed. The petitioner further states that the placement of scalped rock above its portals can be done safely and in accordance with all regulations by following the plan as outlined in this petition. The petitioner asserts that its proposal to cover the mine openings provides the same measure of protection as the existing standard.

Docket Number: M-2008-046-C.

Petitioner: Black Beauty Coal Company, 13101 Zeigler 11 Road, P.O. Box 369, Coulterville, Illinois 62237.

Mine: Gateway Mine, MSHA I.D. No. 11-02408, located in Randolph County, Illinois.

Regulation Affected: 30 CFR 75.1101-1(b) (Deluge-type water spray systems).

Modification Request: The petitioner requests a modification of the existing standard to permit a weekly visual examination and functional test to be performed in lieu of using blow-off dust covers for deluge-type water spray fire-suppression systems used at each belt drive. The petitioner states that: (1) Corrections will be made immediately if a clogged nozzle or any other malfunction is detected as a result of the weekly examination and functional test; (2) the procedure used to perform the functional test will be posted at or near each belt drive that utilizes a deluge-type water spray fire-suppression system; and (3) revisions to the approved training plan will specify the procedure used to conduct weekly functional tests. The petitioner asserts that the safety of the miners will not be compromised with the proposed testing procedures.

Patricia W. Silvey,
Director, Office of Standards, Regulations, and Variances.

[FR Doc. E8-24703 Filed 10-16-08; 8:45 am]

BILLING CODE 4510-43-P